DEPARTMENT OF HOMELAND SECURITY

Coast Guard

33 CFR Part 165

[Docket No. USCG-2024-0579]

Safety Zones; Annual Events in the Captain of the Port Eastern Great Lakes Zone

AGENCY: Coast Guard, DHS.

ACTION: Notification of enforcement of regulation.

SUMMARY: The Coast Guard will enforce multiple safety zones located in federal regulations for recurring marine events taking place in July 2024. This action is necessary and intended for the safety of life and property on navigable waters during these events. During the enforcement periods, no person or vessel may enter the respective safety zone without the permission of the Captain of the Port Eastern Great Lakes or a designated representative.

DATES: The regulations listed in 33 CFR 165.939, table 165.939, will be enforced for the following events during the dates and times indicated below:

• Paragraph (b)(15) French Festival Fireworks (Cape Vincent French Festival)—from 9:15 p.m. through 10:30 p.m. on July 13, 2024, in St Lawrence River.

• Paragraph (b)(16) Lyme Community Days Fireworks (Chaumont Three-Mile Bay)—from 9 p.m. through 10:30 p.m. on July 27, 2024, in Chaumont Bay, Lake Ontario.

• Paragraph (b)(19) Brewerton Fireworks (Brewerton, NY)—from 8:30 p.m. through 11:30 p.m. on July 3, 2024, in Oneida Lake.

• Paragraph (b)(28) Oswego Harborfest (Oswego, NY)—from 9:30 p.m. through 10 p.m. on July 27, 2024, in Lake Ontario.

• Paragraph (b)(29) Oswego Independence Day Celebration Fireworks (Oswego, NY)—from 9 p.m. through 10:30 p.m. on July 7, 2024, in Oswego River.

FOR FURTHER INFORMATION CONTACT: If you have questions about this notice of enforcement, call or email Marine Safety Unit Thousand Islands' Waterways Management Division; telephone 315-774-8724, email SMB-MSUThousandIslands-WaterwaysManagement@uscg.mil.

SUPPLEMENTARY INFORMATION: The Coast Guard will enforce multiple safety zones for annual events in the Captain of the Port Eastern Great Lakes Zone listed in 33 CFR 165.939, table 165.939, for events occurring in the month of July as listed in the `Dates' section above. Pursuant to 33 CFR 165.23, entry into, transiting, or anchoring within these safety zones during an enforcement period is prohibited unless authorized by the Captain of the Port Eastern Great Lakes or his designated representative. Those seeking permission to enter the safety zone may request permission from the Captain of Port Eastern Great Lakes via channel 16, VHF-FM. Vessels and persons granted permission to enter the safety zone shall obey the directions of the Captain of the Port Eastern Great Lakes or his designated representative. While within a safety zone, all vessels shall operate at the minimum speed necessary to maintain a safe course.

This notice of enforcement is issued under authority of 33 CFR 165.939 and 5 U.S.C. 552 (a). In addition to this notice of enforcement in the Federal Register, the Coast Guard will provide the maritime community with advance notification of this enforcement period via Broadcast Notice to Mariners or Local Notice to Mariners. If the Captain of the Port Eastern Great Lakes determines that the safety zone need not be enforced for the full duration stated in this notice, he may use a Broadcast Notice to Mariners to grant general permission to enter the respective safety zone. This notification is being issued by the Coast Guard Sector Eastern Great Lakes Prevention Department Head at the direction of the Captain of the Port.

Dated: June 27, 2024.
J.B. Bybee,
Commander, U.S. Coast Guard, Sector Eastern Great Lakes Prevention Department Head.

[FR Doc. 2024-14613 Filed 7-2-24; 8:45 am]

BILLING CODE 9110-04-P